DEPARTMENT OF COMMERCE

International Trade Administration

[A-823-802]

Uranium From Ukraine; Final Results of Expedited Sunset Review of Antidumping Duty Order

AGENCY: Import Administration, International Trade Administration, Department of Commerce.

ACTION: Notice of Final Results of Expedited Sunset Review: Uranium from Ukraine.

SUMMARY: On August 2, 1999, the Department of Commerce (“the Department”) initiated a sunset review of the antidumping duty order on uranium from Ukraine (64 FR 41915) pursuant to section 751(c) of the Tariff Act of 1930, as amended (“the Act”). On the basis of a notice of intent to participate and adequate substantive comments filed on behalf of domestic interested parties and inadequate response (in this case, no response) from respondent interested parties, the Department determined to conduct an expedited review. As a result of this review, the Department finds that revocation of the antidumping duty order would likely lead to continuation or recurrence of dumping at the levels indicated in the Final Results of Review section of this notice.

FOR FURTHER INFORMATION CONTACT: Kathryn B. McCormick or Melissa G. Skinner, Office of Policy for Import Administration, International Trade Administration, U.S. Department of Commerce, 14th Street and Constitution Avenue, NW, Washington, DC 20230; telephone: (202) 482-1930 or (202) 482-1560, respectively.

EFFECTIVE DATE: March 3, 2000.

Statute and Regulations

This review is being conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”), and in CFR part 351 (1999) in general. Guidance on methodological or analytical issues relevant to the Department's conduct of sunset reviews is set forth in the Department's Policy Bulletin 98.3_Policies Regarding the Conduct of Five-year (“Sunset”) Reviews of Antidumping and Countervailing Duty Orders; Policy Bulletin, 63 FR 18871 (April 16, 1998) (“Sunset Policy Bulletin”).

Background

On August 2, 1999, the Department initiated a sunset review of the antidumping duty order on uranium from Ukraine (64 FR 41915), pursuant to section 751(c) of the Act. The Department received Notices of Intent to Participate on behalf of domestic interested parties, the Ad Hoc Committee of Domestic Uranium Producers (“the Ad Hoc Committee”), including Rio Algom Mining Corporation (“Rio Algom”) and Uranium Resources Inc. (“URI”),¹ USEC, Inc. and its subsidiary, the United States Enrichment Corporation (collectively, “USEC”), and Paper, Allied-Industrial, Chemical and Energy Workers International Union, AFL-CIO (“PACE”), within the applicable deadline (August 17, 1999) specified in section 351.218(d)(1)(i) of the Sunset Regulations. On August 27, 1999, we received a notice of intent to participate on behalf of the Ad Hoc Utilities Group (“AHUG”).² The Ad Hoc Committee claimed interested-party status under section 771(9)(C) of the Act, as the only U.S. producers of a domestic like product; AHUG claimed interested-party status as industrial users of uranium; ³ PACE claimed interested-party status as a union representing workers of two domestic gaseous diffusion plants that produce uranium products.

¹ The Ad Hoc Committee included Cotter corporation in its Notice of Intent to Participate; however, Cotter Corporation was not included in the Ad Hoc Committee's substantive response of September 1, 1999.

² AHUG consists of Ameren UE, Baltimore Gas and Electric Co., Carolina Power and Light Co., Commonwealth Edison Co., Consumers Energy, Duke Power Co., Entergy Services, Inc., FirstEnergy Nuclear Operating Co., Florida Power and Light Co., Northern States Power Co., PECO Energy Co., Southern Nuclear Operating Co., Texas Utilities Electric Co., and Virginia Power.

³ The Department notes that, although industrial users are allowed to participate in sunset reviews, they are not considered “interested parties” as defined in the statute and regulations. See sections 771(9) and 777(h) of the Act, and 19 CFR 351.32.

The Ad Hoc Committee claims that it was the original petitioner in the underlying antidumping investigation (see September 1, 1999, Substantive Response of the Ad Hoc Committee at 1). AHUG did not submit a summary of its past participation in the proceeding.

On September 1, 1999, we received complete substantive responses from the above domestic interested parties and industrial users, with the exception of USEC and PACE,⁴ within the 30-day deadline specified in the Sunset Regulations under section 351.218(d)(3)(i). On September 2, 1999, we received a request for an extension to file rebuttal comments from AHUG.⁵ Pursuant to 19 CFR 351.302(b)(1999), the Department extended the deadline for all participants eligible to file rebuttal comments until September 13, 1999.⁶ Without a substantive response from respondent interested parties, the Department, pursuant to 19 CFR 351.218(e)(1)(ii)(C), determined to conduct an expedited, 120-day review of this order.

⁴ See September 9, 1999, Letter to the Secretary from Philip H. Potter withdrawing PACE from participation in the sunset reviews of uranium from Russia, Uzbekistan, and Ukraine.

⁵ See September 2, 1999, Request for an Extension to File Rebuttal Comments in the Sunset Reviews of Uranium from Russia, Uzbekistan, and Ukraine from Nancy A. Fischer, Shaw Pittman, to Jeffrey A. May, Office of Policy.

⁶ See September 3, 1999, Letter from Jeffrey A. May, Director, Office of Policy to Nancy A. Fischer, Shaw Pittman.

In accordance with section 751(c)(5)(C)(v) of the Act, the Department may treat a review as extraordinarily complicated if it is a review of a transition order (i.e., an order in effect on January 1, 1995). This review concerns a transition order within the meaning of section 751(c)(6)(C)(ii) of the Act. Accordingly, on December 3, 1999, the Department determined that the sunset review of this order is extraordinarily complicated, and extended the time limit for completion of the final results of this review until not later than February 28, 2000, in accordance with section 751(c)(5)(B) of the Act.⁷

⁷ See Extension of Time Limit for Final Results of Five-Year Reviews, 64 FR 67847 (December 3, 1999).

Scope of Review

The merchandise subject to this antidumping duty order includes Ukrainian natural uranium in the form of uranium ores and concentrates; natural uranium metal and natural uranium compounds; alloys, dispersions (including cermets), ceramic products, and mixtures containing natural uranium or natural uranium compounds; uranium enriched in U²³⁵ and its compounds; alloys, dispersions (including cermets), ceramic products and mixtures containing uranium enriched in U²³⁵ or compounds or uranium enriched in U²³⁵. Low enriched uranium (“LEU”) is included within the scope of the order; highly enriched uranium (“HEU”) is not. LEU is uranium enriched in U²³⁵ to a level of up to 20 percent, while HEU is uranium enriched in U²³⁵ to a level of 20 percent or more. The uranium subject to this order is provided for under subheadings 2612.10.00.00, 2844.10.10.00, 2844.10.20.10, 2844.10.20.25, 2844.10.20.50, 2844.10.20.55, 2844.10.50.00, 2844.20.00.10, 2844.20.00.20, 2844.20.00.30, and 2844.20.00.50 of the Harmonized Tariff Schedule of the United States (“HTSUS”).⁸ Although the above HTSUS subheadings are provided for convenience and customs purposes, the written description remains dispositive.

⁸ See Preliminary Determination of Sales at Less Than Fair Value: Uranium from Kazakhstan, Kyrgyzstan, Russia, Tajikistan, Ukraine and Uzbekistan; and Preliminary Determination of Sales at Not Less Than Fair Value: Uranium from Armenia, Azerbaijan, Byelarus, Georgia, Moldova and Turkmenistan, 57 FR 23380, 23381 (June 3, 1992).

The Department clarified, in the scope of the order, that: “milling” or “conversion” performed in a third country does not change the country of origin for the purposes of this order. Milling consists of processing uranium ore into uranium concentrate. Conversion consists of transforming uranium concentrate into natural uranium hexafluoride (UF6). Since milling or conversion does not change the country of origin, uranium ore or concentrate of Ukrainian origin that is subsequently milled and/or converted in a third country will still be considered of Ukrainian origin and subject to antidumping duties (58 FR 45483, August 30, 1993).

Analysis of Comments Received

All issues raised in the case and rebuttal briefs by parties to this sunset review are addressed in the “Issues and Decision Memorandum” (“Decision Memo”) from Jeffrey A. May, Director, Office of Policy, Import Administration, to Robert S. La Russa, Assistant Secretary for Import Administration, dated February 28, 2000, which is hereby adopted and incorporated by reference into this notice. The issues discussed in the attached Decision Memo include the likelihood of continuation or recurrence of dumping and the magnitude of the margin likely to prevail were the order revoked. Parties can find a complete discussion of all issues raised in this review and the corresponding recommendations in this public memorandum which is on file in the Central Records Unit, room B-099, of the main Commerce building.

In addition, a complete version of the Decision Memo can be accessed directly on the Web at www.ita.doc.gov/import_admin/records/frn/, under the heading “Ukraine.” The paper copy and electronic version of the Decision Memo are identical in content.

Final Results of Review

We determine that revocation of the antidumping duty order on uranium from Ukraine would be likely to lead to continuation or recurrence of dumping at the following percentage weighted-average margin:

Manufacturer/exporters | Margin (percent)
All Ukrainian manufacturers/exporters | 129.29

This five-year (“sunset”) review and notice are in accordance with sections 751(c), 752, and 777(i)(1) of the Act.

Dated: February 28, 2000.
Joseph A. Spetrini,
Acting Assistant Secretary for Import Administration.

[FR Doc. 00-5210 Filed 3-2-00; 8:45 am]

BILLING CODE 3510-DS-P